DEPARTMENT OF THE INTERIOR

Fish and Wildlife Service

[FWS-R3-R-2009-N0036; 30136-1265-0000-S3]

Kirtland's Warbler Wildlife Management Area, Located Throughout 8 Counties in the Northern Lower Peninsula of Michigan

AGENCY: Fish and Wildlife Service, Interior.

ACTION: Notice of availability: draft comprehensive conservation plan and environmental assessment; request for comments.

SUMMARY: We, the U.S. Fish and Wildlife Service (Service), announce the availability of a draft comprehensive conservation plan (CCP) and draft environmental assessment (EA) for Kirtland's Warbler Wildlife Management Area (Kirtland's Warbler WMA) for public review and comment. In this draft CCP/EA we describe how we propose to manage Kirtland's Warbler WMA for the next 15 years. The Kirtland's Warbler WMA is part of the National Wildlife Refuge System and is administered by the staff of Seney National Wildlife Refuge (NWR).

DATES: To ensure consideration, we must receive your written comments by May 15, 2009. Special mailings, newspaper articles, internet postings, and other media announcements will inform people of the opportunities to submit written comments.

ADDRESSES: Send your comments or requests for more information by any of the following methods. You may also drop off comments in person at Seney NWR.

• Agency Web site: View or download a copy of the document and comment at http://www.fws.gov/midwest/Planning/kirtland/

• E-mail: r3planning@fws.gov. Include “Kirtland's Warbler WMA Draft CCP/EA” in the subject line of the message.

• Fax: 906-586-3800.

• Mail: Attention: Refuge Manager, Seney National Wildlife Refuge, 1674 Refuge Entrance Road, Seney, MI 49883.

FOR FURTHER INFORMATION CONTACT: Tracy Casselman, 906-586-9851.

SUPPLEMENTARY INFORMATION:

Introduction

With this notice, we continue the CCP process for Kirtland's Warbler WMA, which we began by publishing a notice of intent April 21, 2006 (71 FR 20722). For more about the initial process and the history of this WMA, see that notice.

We established this WMA in the early 1980s due, in part, to the recommendations of the Kirtland's Warbler Recovery Team. The original goal was to acquire 7,500 acres of land on which habitat would be managed for the benefit of Kirtland's warbler. At present, the area contains 124 separate tracts totaling 6,582 acres.

Background

The CCP Process

The National Wildlife Refuge System Administration Act of 1966, as amended by the National Wildlife Refuge System Improvement Act of 1997 (16 U.S.C. 668dd-668ee), requires us to develop a comprehensive conservation plan for each national wildlife refuge and wildlife management area. The purpose in developing a CCP is to provide managers with a 15-year strategy for achieving wildlife management area purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other stakeholders and partners, and the public identified several priority issues, which include habitat management, nuisance species control, and recreation opportunities and visitor services. To address these issues, we developed and evaluated the following alternatives during the planning process.

Alternative 1: Current Management Direction of Habitat Management (No Action)

The current management direction of Kirtland's Warbler WMA would be maintained under this alternative. For NEPA purposes, this is referred to as the “No Action” alternative, a misnomer as some changes will occur over the next 15 years. Nonetheless, in Alternative 1 intensive management of existing jack pine stands would continue to occur in close cooperation with the Michigan Department of Natural Resources (DNR), with the primary objective to produce dense jack pine plantations for Kirtland's Warbler breeding habitat. The WMA staff and Michigan DNR land managers would continue to monitor habitat prescription effects and make improvements in jack pine habitat management as it pertains primarily to Kirtland's Warbler. Public use would follow the current direction and be linked to uses of the surrounding state lands. Environmental education and outreach will be limited primarily to the annual Kirtland's Warbler Festival events.

Alternative 2: Management From an Ecological Perspective

Alternative 2 would seek to make changes from the current high intensity habitat management that produces jack pine plantations for Kirtland's Warbler by trenching and planting. Future management would be from a more ecologically broad and holistic jack pine ecosystem management standpoint based on benchmark conditions derived from jack pine stands regenerated by wildfire. This alternative would include management practices that place a greater emphasis on ecological integrity and better emulating wildfire-produced jack pine stand composition and structural patterns and resulting biodiversity. Timber harvests would try to better emulate wildfire-produced stand conditions, and a range of regeneration options would be used, including prescribed fire when and where possible. An increased emphasis would also occur within law enforcement and visitor use. Enforcement of hunting regulations, trespass, and other violations would likely require more staff time and year-round presence. Visitor use would be facilitated by marking some properties with signs and by outreach to surrounding communities and users.

Alternative 3: Ecological Management and Land Ownership Consolidation (Preferred Alternative)

Alternative 3 would seek to manage existing lands as suggested in Alternative 2, but would also explore land exchanges with the state (and possibly U.S. Forest Service) to consolidate state and WMA parcels. Proposed land exchanges would likely increase the total area of land managed for Kirtland's Warbler, as well as increase management efficiency by both federal and state agencies. Existing lands and any new lands acquired through exchange would be managed to benefit the Kirtland's Warbler and other native flora and fauna of jack pine ecosystems. However, jack pine stand management would be shifted towards a more ecologically-based approach rather than the highly intensive manner of present habitat management that produces jack pine plantations. For instance, if consolidation would occur and the Service would obtain upland jack pine stands in the eastern Upper Peninsula, prescribed fire would be a more likely management tool.

Public Input

We will give the public an opportunity to provide comments upon release of the draft plan. You may submit comments anytime during the comment period.

Public Availability of Comments

Before including your address, phone number, e-mail address, or other personal identifying information in your comment, you should know that your entire comment—including your personal identifying information—may be made publicly available at any time. While you may ask us in your comment to withhold your personal identifying information from public review, we cannot guarantee that we will be able to do so.

Dated: March 3, 2009.
Charles M. Wooley,
Acting Regional Director, U.S. Fish and Wildlife Service, Fort Snelling, Minnesota.

[FR Doc. E9-8380 Filed 4-10-09; 8:45 am]

BILLING CODE 4310-55-P